DEPARTMENT OF JUSTICE

Antitrust Division

Notice Pursuant to the National Cooperative Research and Production Act of 1993—American Gap Association

Notice is hereby given that, on December 23, 2015, pursuant to Section 6(a) of the National Cooperative Research and Production Act of 1993, 15 U.S.C. 4301 et seq. (“the Act”), American Gap Association (“AGA”) has filed written notifications simultaneously with the Attorney General and the Federal Trade Commission disclosing additions or changes to its standards development activities. The notifications were filed for the purpose of extending the Act's provisions limiting the recovery of antitrust plaintiffs to actual damages under specified circumstances. Specifically, the Association ratified the 2016 version of Gap Year Standards; expanded the Board of Directors; expanded its six organizational committees, including the Standards & Accreditation committee; and merged with the 501(c)(3) American Gap Foundation (d/b/a American Gap Association) to better streamline its activities and further support the benefits of all Gap years in the U.S.

On June 6 2012, AGA filed its original notification pursuant to Section 6(a) of the Act. The Department of Justice published a notice in the Federal Register pursuant to Section 6(b) of the Act on July 6, 2012 (77 FR 40085).

The last notification was filed with the Department on August 12, 2013. A notice was published in the Federal Register pursuant to Section 6(b) of the Act on September 10, 2013 (78 FR 55296).

Patricia A. Brink,
Director of Civil Enforcement, Antitrust Division.

[FR Doc. 2016-01263 Filed 1-21-16; 8:45 am]

BILLING CODE P